DEPARTMENT OF COMMERCE

National Oceanic and Atmospheric Administration

[RTID 0648-XF229]

North Pacific Fishery Management Council; Public Meeting

AGENCY: National Marine Fisheries Service (NMFS), National Oceanic and Atmospheric Administration (NOAA), Commerce.

ACTION: Notice of web conference.

SUMMARY: The North Pacific Fishery Management Council (Council) Charter Halibut Management Committee will meet October 23, 2025.

DATES: The meeting will be held on Thursday, October 23, 2025, from 8:30 a.m. to 3 p.m., Alaska Time.

ADDRESSES: The meeting will be a web conference. Join online through the link at https://meetings.npfmc.org/Meeting/Details/3103.

Council address: North Pacific Fishery Management Council, 1007 W 3rd Ave, Suite 400, Anchorage, AK 99501-2252; telephone: 907-271-2809. Instructions for attending the meeting via video conference are given under SUPPLEMENTARY INFORMATION, below.

FOR FURTHER INFORMATION CONTACT: Sarah Marrinan, Council staff; phone; 907-271-2809; email: smarrinan@npfmc.org. For technical support please contact our admin Council staff, 907-271-2809; email: support@npfmc.org.

SUPPLEMENTARY INFORMATION:

Agenda

Thursday, October 23, 2025

The Charter Halibut Management Committee will meet to make recommendations on management measures to analyze for the 2026 season. First, the Alaska Department of Fish and Game (ADF&G) will go over the final charter halibut harvest and effort numbers for 2024 and preliminary harvest and effort numbers for 2025. Then the committee will discuss development of the 2026 management measures for ADF&G analysis. The committee will also consider whether to recommend other charter halibut proposals to the Council. The meeting will conclude with any other business. The agenda is subject to change, and the latest version will be posted https://meetings.npfmc.org/Meeting/Details/3103 prior to the meeting, along with meeting materials.

Connection Information

You can attend the meeting online using a computer, tablet, or smart phone; or by phone only. Connection information will be posted online at: https://meetings.npfmc.org/Meeting/Details/3103.

Public Comment

Public comment letters will be accepted prior to the meeting and should be submitted electronically to https://meetings.npfmc.org/Meeting/Details/3103.

(Authority: 16 U.S.C. 1801 et seq.)

Dated: September 29, 2025.
Becky J. Curtis,
Acting Deputy Director, Office of Sustainable Fisheries, National Marine Fisheries Service.

[FR Doc. 2025-19217 Filed 10-1-25; 8:45 am]

BILLING CODE 3510-22-P